DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of the Cooperative Agreements to Benefit Homeless Individuals (CABHI) Program (OMB No. 0930-0320)—Revision

SAMHSA is conducting a cross-site evaluation of the FY2016 cohort of the CABHI grant program. The CABHI Evaluation builds on a previous evaluation of SAMHSA's 2009-2012 homeless services grant programs (i.e., Grants for the Benefit of Homeless Individuals, Services in Supportive Housing, and CABHI), under which the approved data collection tools were developed and implemented. SAMHSA is requesting approval from OMB to revise the burden inventory, which has been calculated based on the number of FY2016 CABHI grantees and potential future cohorts of grantees to be awarded in FY2017, and to revise some of the measures used on current tools.

In 2016, SAMHSA awarded 30 CABHI grants across three levels: States (up to $1.5 million per year), local governments (up to $800,000 per year), and communities (up to $400,000 per year). The grantees are united by the goal of enhancing and expanding infrastructure and capacity for mental health and substance abuse treatment and related support services for individuals experiencing chronic homelessness or veterans, families, or youth experiencing homelessness as a result of these conditions. This is accomplished through the provision of permanent supportive housing, behavioral health treatment, and recovery support services, and enrollment in health insurance, Medicaid, or other mainstream benefit programs. Potential grantees awarded in FY2017 will have the same funding options and grant requirements.

The primary task of the CABHI evaluation is to conduct a comprehensive process and outcome evaluation, addressing questions related to the implementation of the CABHI grant projects and the extent to which they were able to meet the program's goals. Process evaluation primarily represents what is done to and for the client (e.g., services provided); this aspect of the evaluation will also include a focus on structure, or the resources available in the service delivery system, which represent the capacity to deliver quality care, but not the care itself. The outcome evaluation will focus on outputs, which are the most immediate or proximal results of project activities (e.g., changes in partner collaboration, the number of clients enrolled in mainstream benefits), and client outcomes, particularly those related to behavioral health and homelessness and housing instability. Data collection efforts that will support the evaluation are described below.

The Client Interview—Baseline and the Client Interview—6-Month Follow-up have been developed to provide descriptive information about clients, and assess changes in client outcomes and their association with project characteristics. The tools were developed based on review of the literature and consultation with a panel of national experts, grantees, and SAMHSA. The tools were successfully used with over 7,000 clients during the previous evaluation of SAMHSA's Homeless programs.

The Client Interview is comprised of questions (unique from SAMHSA's Government Performance and Results Act [GPRA] client-level tool) that measure the outcomes of interest and subpopulations of focus: homelessness, housing, treatment history, trauma symptoms, housing and treatment choice, burden and satisfaction, and criminal justice involvement. For the CABHI Evaluation, the Client Interview Baseline and 6-Month Follow-up have been updated to (1) reflect changes to the GPRA client-level tool which allowed the questions on military service to be removed, (2) align with the newest version of the Diagnostic and Statistical Manual of Mental Disorders (DSM), (3) remove the Readiness to Change measure, and (4) add detailed housing and homelessness questions. For the 6-Month Follow-up only, questions documenting services and evidence based practices received were added to improve data on client service receipt. Immediately following the SAMHSA-required administration of the GPRA client-level tools, which are completed by enrolled clients for each grantee project at baseline and 6-month follow-up, the paper and pencil Client Interview will be administered face-to-face by the GPRA interviewer. Questions regarding perception of care and treatment coercion will be self-administered by participating clients and returned to the interviewer in a sealed envelope to be included in the full package mailed to the evaluation coordinating center. Client participation is voluntary; gift card incentives will be given at baseline worth a $15 value and at 6-month follow-up worth a $30 value. Clients will be assigned unique identifiers by local projects; responses will be recorded on a paper and pencil answer sheet, mailed by the grantee project to the evaluation coordinating center, and scanned into a secure dataset. This process will eliminate the need for data entry, thereby reducing cost and potential for data entry error, and ensuring privacy for evaluation data.

The Stakeholder Survey will be conducted with CABHI project stakeholders and partners via a web survey to assess the types of stakeholder partnerships involved in the CABHI projects, the services provided, and the effectiveness of implementation and collaboration in the CABHI projects. For the CABHI Evaluation, the survey has been divided into three waves so that questions are relevant to the current phase of grant implementation (e.g. wave 1 will be administered in year 1 of the project). Also, a section on healthcare services was added and the current section on collaboration was expanded to include new measures on collaboration. One wave of the survey will be administered each year of the three year grants. Each survey respondent will be issued a username and password to login to and complete the secure web-based survey. The web-based survey format will reduce burden on the respondent and minimize potential for measurement error.

Annual burden has increased from 4,006 to 5,098 hours per year as the response burden times have been revised to reflect real-world experience during the Homeless Programs evaluation and the number of respondents has been increased for the Stakeholder Survey.

Annualized Burden Hours
Instrument/activity | Number of respondents | Responses per respondent | Total number of responses | Hours per response | Total burden hours
Baseline data collection (Clients) | 5,827 | 1 | 5,827 | 0.42 | 2,447
6-month follow-up data collection (Clients) | 4,662 | 1 | 4,662 | 0.5 | 2,331
Client Subtotal | ᵇ 5,827 |  | 10,489 |  | 4,778
Stakeholder Survey | 780 | 1 | 780 | 0.41 | 320
Total | ᵇ 6,607 |  | 11,269 |  | 5,098
ᵃ Total respondent cost is calculated as hourly wage × time spent on survey × total number of responses.
ᵇ Estimated number of total unique respondents.

Written comments and recommendations concerning the proposed information collection should be sent by June 12, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-09631 Filed 5-11-17; 8:45 am]

BILLING CODE 4162-20-P